DEPARTMENT OF COMMERCE

National Oceanic and Atmospheric Administration

50 CFR Part 679

[Docket No. 070213033-7033-01]

RIN 0648-XD68

Fisheries of the Exclusive Economic Zone Off Alaska; Bering Sea and Aleutian Islands; 2008 Final Harvest Specifications for Groundfish

AGENCY: National Marine Fisheries Service (NMFS), National Oceanic and Atmospheric Administration (NOAA), Commerce.

ACTION: Final rule; closures.

SUMMARY: NMFS announces revisions to the 2008 final harvest specifications and prohibited species catch (PSC) allowances for the groundfish fisheries of the Bering Sea and Aleutian Islands management area (BSAI) and Gulf of Alaska (GOA) that are required under the final rules implementing Amendments 80 and 85 to the Fishery Management Plan for Groundfish of the Bering Sea and Aleutian Islands Management Area (FMP). This action is necessary to establish harvest limits for groundfish at the beginning of the 2008 fishing year consistent with the new allocations for Amendments 80 and 85 and to accomplish the goals and objectives of the FMP. The intended effect of this action is to conserve and manage the groundfish resources in the BSAI and in the GOA in accordance with the Magnuson-Stevens Fishery Conservation and Management Act (Magnuson-Stevens Act).

DATES: The 2008 final harvest specifications and associated apportionment of reserves are effective at 0001 hrs, Alaska local time (A.l.t.), January 1, 2008, until the effective date of the 2008 and 2009 final harvest specifications for BSAI and GOA groundfish, which will be published in the Federal Register.

ADDRESSES: Copies of the Final Alaska Groundfish Harvest Specifications Environmental Impact Statement (EIS) and Record of Decision (ROD) and the Final Regulatory Flexibility Analyses (FRFAs) prepared for the 2008 harvest specifications and Amendments 80 and 85 to the FMP are available on the Alaska Region website at http://www.fakr.noaa.gov. Printed copies can be obtained from the Alaska Region, NMFS, P.O. Box 21668, Juneau, AK 99802, Attn: Ellen Sebastian. Copies of the 2006 Stock Assessment and Fishery Evaluation (SAFE) report for the groundfish resources of the BSAI, dated November 2006, are available from the North Pacific Fishery Management Council, 605 West 4th Avenue, Suite 306, Anchorage, AK 99510-2252, 907-271-2809, or from its website at http://www.fakr.noaa.gov/npfmc.

FOR FURTHER INFORMATION CONTACT: Mary Furuness, 907-586-7228, or e-mail mary.furuness@noaa.gov.

SUPPLEMENTARY INFORMATION: Federal regulations at 50 CFR part 679 implement the FMP and govern the groundfish fisheries in the BSAI. The North Pacific Fishery Management Council (Council) prepared the FMP, and NMFS approved it under the Magnuson-Stevens Act. General regulations governing U.S. fisheries also appear at 50 CFR part 600.

The final rule implementing Amendment 80 to the BSAI FMP was published in the Federal Register on September 14, 2007 (72 FR 52668). Amendment 80 to the FMP allocates total allowable catch (TAC) of specified groundfish species (Amendment 80 species) and halibut and crab prohibited species catch (PSC) limits among several BSAI non-pollock trawl groundfish fisheries fishing sectors, and facilitates the formation of harvesting cooperatives in the non-American Fisheries Act (non-AFA) trawl catcher/processor sector. The Amendment 80 species are Atka mackerel, flathead sole, Pacific cod, rock sole, yellowfin sole, and Aleutian Islands Pacific ocean perch. In order to limit the ability of participants eligible for the Amendment 80 program to expand their harvest efforts in the GOA, Amendment 80 establishes groundfish and halibut PSC catch limits for Amendment 80 program participants in the GOA.

The final rule implementing Amendment 85 to the BSAI FMP was published in the Federal Register on September 4, 2007 (72 FR 50788). Amendment 85 revises the current allocations of BSAI Pacific cod TAC among various harvest sectors and seasonal apportionments. Also, Amendment 85 apportions the halibut PSC allowance annually specified for the hook-and-line Pacific cod fishery between the hook-and-line catcher processor and catcher vessel sectors.

With this final rule NMFS modifies those sections of the text and the tables in the 2008 final harvest specifications for groundfish in the BSAI (72 FR 9451, March 2, 2007) and for groundfish in the GOA (72 FR 9676, March 5, 2007) that change under the final rules implementing Amendments 80 and 85. This includes Tables 1, 2, 4, 5, 7, 9, 10, 11, 12, 13, 14, and 15 from the final 2008 harvest specifications for the BSAI which may be viewed at the website http://www.fakr.noaa.gov/frules/72fr9451.pdf. This final rule uses the same table numbers that were used in the 2008 final harvest specifications. This action also adds a new Table 16 for BSAI flathead sole, rock sole, yellowfin sole, and Aleutian Islands Pacific ocean perch allocations required by Amendment 80. For the GOA, this final rule adds text and Tables 17 and 18 to establish sideboard limits in the Gulf of Alaska for the Amendment 80 vessels. This final rule is necessary to ensure that allocations will be in effect for Amendments 80 and 85 participants at the beginning of the 2008 fishing year. These allocations also will be incorporated in future rulemaking supporting the annual harvest specification process for the Alaska groundfish fisheries.

Revisions to 2008 Final Harvest Specifications for the BSAI

Table 1.

The 2008 final TACs for the BSAI are within the optimum yield range established for the BSAI and do not exceed the acceptable biological catch (ABC) for any single species or complex. Table 1 of the 2008 final harvest specifications (72 FR 9454) lists the 2008 final OFL, ABC, TAC, initial total allowable catch (ITAC), and CDQ groundfish reserve amounts for BSAI groundfish. This action does not change the 2008 OFL, ABC, TAC, or CDQ groundfish reserve amounts. However, the final rules implementing Amendments 80 and 85 modified the percentage of TAC for the directed fisheries species that are allocated to the Community Development Quota (CDQ) program, per statutory requirements. This action does not need to revise these CDQ reserve amounts because the 2008 final harvest specifications (72 FR 9451, March 2, 2007) used the same percentage of TAC.

As explained in the proposed and final rules for Amendment 80, catch in the CDQ fisheries of species in TAC categories that are not allocated to the CDQ program will be managed under the statutory and regulatory provisions for the non-CDQ groundfish fisheries. Retention of species closed to directed fishing will either be limited to maximum retainable amounts or all catch of the species will be required to be discarded. Notices of closures to directed fishing and retention requirements for these species will apply to the CDQ and non-CDQ sectors. The catch of species not allocated to the CDQ program in the CDQ fisheries will not constrain the catch of other CDQ species unless catch by all sectors approached an overfishing level (OFL). This action changes Table 1 by increasing the 2008 ITAC amounts for the Amendment 80 species from 85 percent to 89.3 percent of their respective TACs. The revised Table 1 below replaces Table 1 in the final harvest specifications (72 FR 9454). The apportionment of TAC amounts among fisheries and seasons is discussed below.

BILLING CODE 6100-22-S

BILLING CODE 6100-22-C

Non-specified Reserves, CDQ Reserves and the Incidental Catch Allowance (ICA) for Pollock, Atka Mackerel, Flathead Sole, Rock Sole, Sablefish, Yellowfin Sole, and Aleutian Islands

Pacific Ocean Perch

Amendment 80 fully allocates the TACs for Amendment 80 species between the ITAC (89.3 percent) and CDQ reserves (10.7 percent). Therefore, this action changes the amount of the Amendment 80 species allocated to the non-specified reserves from 7.5 percent to 0 percent. Also, for species allocated to the CDQ program, except pollock and the portion of the sablefish TAC allocated to the hook-and-line and pot gear, Amendment 80 increases the CDQ reserves from 7.5 percent to 10.7 percent. Therefore, this action changes the amount of arrowtooth flounder and Bering Sea Greenland turbot allocated to the non-specified reserves from 7.5 percent to 4.3 percent. This action also establishes ICAs for Atka mackerel, flathead sole, rock sole, yellowfin sole, and Aleutian Islands Pacific ocean perch, since Amendment 80 fully allocates these species to the BSAI trawl limited access and Amendment 80 sectors.

Section 679.20(b)(1)(i) requires the placement of 15 percent of the TAC for each target species or “other species” category, except for pollock, the hook-and-line and pot gear allocation of sablefish, and the Amendment 80 species, in a non-specified reserve. Section 679.20(b)(1)(ii)(B) requires that 20 percent of the hook-and-line and pot gear allocation of sablefish be allocated to the fixed gear sablefish CDQ reserve. Section 679.20(b)(1)(ii)(D) requires the allocation of 7.5 percent of the trawl gear allocations of sablefish and 10.7 percent of the Bering Sea Greenland turbot and arrowtooth flounder TACs to the respective CDQ reserves. Section 679.20(b)(1)(ii)(C) requires the allocations of 10.7 percent of the TACs for Atka mackerel, Aleutian Islands Pacific ocean perch, yellowfin sole, rock sole, flathead sole, and Pacific cod to the CDQ reserves. Sections 679.20(a)(5)(iii)(B)(2)(i), 679.20(b)(1)(i)(A), and 679.31(a) also require the allocation of 10 percent of the BSAI pollock TACs to the pollock CDQ directed fishing allowance (DFA). The entire Bogoslof District pollock TAC is allocated as an ICA (see §§ 679.20(a)(5)(ii)). With the exception of the hook-and-line and pot gear sablefish CDQ reserve, the regulations do not further apportion the CDQ allocations by gear. Section 679.21(e)(3)(i)(A) requires withholding of 7.5 percent of the Chinook salmon PSC limit, 10.7 percent of the crab and non-Chinook salmon PSC limits, and 343 metric tons (mt) of halibut PSC as PSQ reserves for the CDQ fisheries. Sections 679.30 and 679.31 set forth regulations governing the management of the CDQ and PSQ reserves.

Pursuant to § 679.20(a)(5)(i)(A)(1), NMFS allocates a pollock ICA of 2.8 percent of the Bering Sea subarea pollock TAC after subtraction of the 10 percent CDQ reserve. This allowance is unchanged from the final 2008 harvest specifications for the BSAI (72 FR 9451, March 2, 2007).

Pursuant to § 679.20(a)(8) and (10), NMFS allocates new ICAs of 2,000 mt of flathead sole, 2,000 mt of rock sole, 2,000 mt of yellowfin sole, 10 mt each of Western and Central Aleutian District Pacific ocean perch and Atka mackerel, 100 mt of Eastern Aleutian District Pacific ocean perch, and 1,400 mt of Eastern Aleutian District and Bering Sea subarea Atka mackerel TACs after subtraction of the 10.7 percent CDQ reserve. These allowances are based on NMFS' examination of the incidental catch in other target fisheries from 2003 through 2006.

Pursuant to § 679.20(b)(1)(i), Amendment 80 species are no longer put into a non-specified reserve. Therefore, this action removes from Table 2 the Amendment 80 species (Pacific cod, Atka mackerel and Pacific ocean perch) that were supplemented from the non-specified reserve in Table 2 of the final 2008 harvest specifications (72 FR 9455). The regulations do not designate the remainder of the non-specified reserve by species or species group. Any amount of the reserve may be apportioned to a target species or to the “other species” category during the year, provided that such apportionments do not result in overfishing (see § 679.20(b)(1)(ii)). The Regional Administrator has determined that the ITACs specified for the species listed in Table 2 need to be supplemented from the non-specified reserve because U.S. fishing vessels have demonstrated the capacity to catch the full TAC allocations. Therefore, in accordance with § 679.20(b)(3), NMFS is apportioning the amounts shown in Table 2 from the non-specified reserve to increase the ITAC for northern rockfish, shortraker rockfish, rougheye rockfish, and Bering Sea “other rockfish” by 7.5 percent of the TAC. The revised Table 2 below replaces Table 2 in the final harvest specifications (72 FR 9455).

BILLING CODE 6100-22-S

BILLING CODE 6100-22-C

Allocation of the Atka Mackerel TAC

Section 679.20(a)(8)(ii) allocates the Atka mackerel TACs, after subtracting first the CDQ reserves, second the ICAs for the BSAI trawl limited access sector and non-trawl gear, and third the jig gear allocation, to the Amendment 80 and BSAI trawl limited access sectors. The allocation of the ITAC for Atka mackerel to the Amendment 80 and BSAI trawl limited access sectors is established in Table 33 to part 679 and § 679.91.

Pursuant to § 679.20(a)(8)(i), up to 2 percent of the Eastern Aleutian District and Bering Sea subarea Atka mackerel ITAC may be allocated to jig gear. The amount of this allocation is determined annually by the Council based on several criteria, including the anticipated harvest capacity of the jig gear fleet. For 2008, the Council recommended, and NMFS approved, a 1 percent allocation of the Atka mackerel ITAC in the Eastern Aleutian District and Bering Sea subarea to jig gear. Based on the 2008 TAC of 17,600 mt the 2008 jig gear allocation is revised to 143 mt.

Section 679.20(a)(8)(ii)(A) apportions the Atka mackerel ITAC into two equal seasonal allowances. The first seasonal allowance is made available for directed fishing from January 1 (January 20 for trawl gear) to April 15 (A season), and the second seasonal allowance is made available from September 1 to November 1 (B season; Table 4). The jig gear allocation is not apportioned by season.

Pursuant to § 679.20(a)(8)(ii)(C)(1), the Regional Administrator will establish a harvest limit area (HLA) limit of no more than 60 percent of the seasonal TAC for the Central (Area 542) and Western (Area 543) Aleutian Districts. NMFS will establish HLA limits for the CDQ reserve and each of the three non-CDQ fishery categories: the BSAI trawl limited access sector; the Amendment 80 limited access sector; and an aggregate HLA limit applicable to all Amendment 80 cooperatives. NMFS will assign vessels in each of those three non-CDQ sectors that apply to fish for Atka mackerel in the HLA to an HLA fishery based on a random lottery for each sector of the vessels that apply (see § 679.20(a)(8)(iii)).

Each trawl sector will have a separate lottery. A maximum of two HLA fisheries will be established in Area 542 for the BSAI trawl limited access sector. In Area 543, there is no allocation of Atka mackerel or HLA fishery for the BSAI trawl limited access sector. Therefore, the lottery for the BSAI trawl limited access sector will not include Area 543. A maximum of four HLA fisheries will be established for vessels assigned to Amendment 80 cooperatives, a first and second HLA fishery in Area 542, and a first and second HLA fishery in Area 543. A maximum of four HLA fisheries will be established for vessels assigned to the Amendment 80 limited access fishery, a first and second HLA fishery in Area 542, and a first and second HLA fishery in Area 543. NMFS will initially open fishing in the HLA for the first HLA fishery in all three trawl sectors at the same time. The initial opening of fishing in the HLA will be based on the first directed fishing closure of Atka mackerel in the Eastern Aleutian District and Bering Sea subarea for any one of the three trawl sectors allocated Atka mackerel TAC. This action changes the Atka mackerel allocations by subtracting the amount for the ICA. This reduces the amount of Atka mackerel available for the jig gear allocation in the Eastern Aleutian District and Bering Sea subarea. This action also adds the allocations to three sectors: BSAI trawl limited access, Amendment 80 limited access, and Amendment 80 cooperatives. The revised Table 4 below replaces Table 4 in the final harvest specifications (72 FR 9457).

BILLING CODE 6100-22-S

BILLING CODE 6100-22-C

Allocation of the Pacific cod TAC

This action changes the Pacific cod allocations in Table 5 by increasing the hook-and-line and pot catcher vessels less than 60 ft (18.3 m) length overall (LOA), hook-and-line catcher/processors, and pot catcher vessels greater than or equal to 60 ft (18.3 m) LOA allocations and decreasing pot catcher/processors, jig gear, trawl catcher vessels, and trawl catcher/processors. Also, the trawl catcher/processor allocation is separated into allocations for the AFA trawl catcher/processors and non-AFA trawl catcher/processors. Amendment 80 further allocates the non-AFA trawl catcher/processor allocation between the Amendment 80 limited access and cooperatives. Table 5 also revises the seasonal allowances of Pacific cod to various sectors.

Section 679.20(a)(7)(i) and (ii) allocates the Pacific cod TAC in the BSAI, after subtraction of 10.7 percent for the CDQ reserve, as follows: 1.4 percent to vessels using jig gear, 2.0 percent to hook-and-line and pot catcher vessels less than 60 ft (18.3 m) length overall (LOA), 0.2 percent to hook-and-line catcher vessels greater than or equal to 60 ft (18.3 m) LOA, 48.7 percent to hook-and-line catcher/processors, 8.4 percent to pot catcher vessels greater than or equal to 60 ft (18.3 m) LOA, 1.5 percent to pot catcher/processors, 2.3 percent to American Fisheries Act (AFA) trawl catcher/processors, 13.4 percent to non-AFA trawl catcher/processors, and 22.1 percent to trawl catcher vessels. The ICA for the hook-and-line and pot sectors will be deducted from the aggregate portion of Pacific cod TAC allocated to the hook-and-line and pot sectors. For 2008, the Regional Administrator establishes an ICA of 500 mt based on anticipated incidental catch by these sectors in other fisheries. This allowance is unchanged from the final 2008 harvest specifications for the BSAI (72 FR 9458, March 2, 2007). The allocation of the ITAC for Pacific cod to the Amendment 80 sector is established in Table 33 to part 679 and § 679.91.

Sections 679.20(a)(7) and 679.23(e)(5) apportion seasonal allowances of the Pacific cod ITAC to disperse the Pacific cod fisheries over the fishing year. In accordance with § 679.20(a)(7)(iv)(B) and (C), any unused portion of a seasonal Pacific cod allowance will become available at the beginning of the next seasonal allowance.

Sections 679.20(a)(7)(i)(B) and 679.23(e)(5) establish the CDQ season allowances based on gear. For most hook-and-line catcher/processors and hook-and-line catcher vessels greater than or equal to 60 ft (18.3 m) LOA harvesting CDQ Pacific cod, the first seasonal allowance of 60 percent of the ITAC is available for directed fishing from January 1 to June 10, and the second seasonal allowance of 40 percent of the ITAC is available from June 10 to December 31. No seasonal harvest constraints are imposed on the CDQ Pacific cod fishery for pot gear or hook-and-line catcher vessels less than 60 feet (18.3 m) LOA. For vessels harvesting CDQ Pacific cod with trawl gear the first season allowance of 60 percent of the ITAC is available January 20 to April 1. The second season, April 1 to June 10, and the third season, June 10 to November 1, are each allocated 20 percent of the ITAC. The CDQ Pacific cod trawl catcher vessel allocation is further allocated as 70 percent in the first season, 10 percent in the second season, and 20 percent in the third season. The CDQ Pacific cod trawl catcher/processor allocation is 50 percent in the first season, 30 percent in the second season, and 20 percent in the third season. For jig gear, the first and third seasonal allowances are each allocated 40 percent of the ITAC and the second seasonal allowance is allocated 20 percent of the ITAC.

Sections 679.20(a)(7)(iv)(A) and 679.23(e)(5) apportion the non-CDQ season allowances by gear as follows. For hook-and-line and pot catcher/processors and hook-and-line and pot catcher vessels greater than or equal to 60 ft (18.3 m) LOA, the first seasonal allowance of 51 percent of the ITAC is available for directed fishing from January 1 to June 10, and the second seasonal allowance of 49 percent of the ITAC is available from June 10 (September 1 for pot gear) to December 31. No seasonal harvest constraints are imposed on the Pacific cod fishery for catcher vessels less than 60 feet (18.3 m) LOA using hook-and-line or pot gear. For trawl gear, the first season is January 20 to April 1, the second season is April 1 to June 10, and the third season is June 10 to November 1. The trawl catcher vessel allocation is further allocated as 74 percent in the first season, 11 percent in the second season, and 15 percent in the third season. The trawl catcher/processor allocation is allocated 75 percent in the first season, 25 percent in the second season, and zero percent in the third season. For jig gear, the first seasonal allowance is allocated 60 percent of the ITAC and the second and third seasonal allowances are each allocated 20 percent of the ITAC. Table 5 lists the new 2008 allocations and seasonal apportionments of the Pacific cod TAC. The revised Table 5 below replaces Table 5 in the final harvest specifications (72 FR 9458).

BILLING CODE 6100-22-S

BILLING CODE 6100-22-C

Allocation of PSC Limits for Halibut, Salmon, Crab, and Herring

Amendment 80 reduces the allocations of halibut, non-Chinook salmon, and crab PSC limits that may be taken while non-AFA trawl catcher/processors are groundfish fishing in the BSAI. Amendment 80 increases the non-Chinook salmon and crab allocated to the CDQ program as prohibited species quota (PSQ) reserve increases from 7.5 percent to 10.7 percent and increases the percentage of halibut PSQ allocated to the CDQ program. Amendment 85 divides the halibut PSC allowance annually specified for the hook-and-line Pacific cod fishery between two fishery sectors: the hook-and-line catcher/processor sector and the hook-and-line catcher vessel sector.

Amendment 80 also adjusts the maximum limit for red king crab bycatch in the red king crab savings subarea. This action incorporates these allocation changes in Tables 7a-e below. Tables 7a-e do not change the PSC limits that were established in the original harvest specifications for 2008.

Section 679.21(e) sets forth the BSAI PSC limits. Sections 679.21(e)(1)(iv) and (e)(2) establish the 2008 BSAI halibut mortality limits as 3,675 mt for trawl fisheries and 900 mt for the non-trawl fisheries. Section 679.21(e)(3)(i) allocates 276 mt of the trawl halibut mortality limit and § 679.21(e)(4)(i)(A) allocates 7.5 percent, or 67 mt, of the non-trawl halibut mortality limit as the PSQ reserve for use by the groundfish CDQ program. Section 679.21(e)(1)(vi) specifies 29,000 fish as the 2008 Chinook salmon PSC limit for the Bering Sea subarea pollock fishery. Section 679.21(e)(3)(i)(A)(3)(i) allocates 7.5 percent, or 2,175 Chinook salmon, as the Bering Sea subarea PSQ reserve for the CDQ program and allocates the remaining 26,825 Chinook salmon to the non-CDQ fisheries. Section 679.21(e)(1)(viii) specifies 700 fish as the 2008 Chinook salmon PSC limit for the AI subarea pollock fishery. Section 679.21(e)(3)(i)(A)(3)(i) allocates 7.5 percent, or 53 Chinook salmon, as the AI subarea PSQ reserve for the CDQ program and allocates the remaining 647 Chinook salmon to the non-CDQ fisheries. Section 679.21(e)(1)(vii) specifies 42,000 fish as the 2008 non-Chinook salmon PSC limit for the BSAI. Section 679.21(e)(3)(i)(A)(3)(ii) allocates 10.7 percent, or 4,494 non-Chinook salmon, as the PSQ reserve for the CDQ program and allocates the remaining 37,506 non-Chinook salmon to the non-CDQ fisheries.

PSC limits for crab and herring are specified annually based on abundance and spawning biomass. Pursuant to § 679.21(e)(3)(i)(A)(1), 10.7 percent of each PSC limit specified for crab is allocated as a PSQ reserve for use by the groundfish CDQ program.

The red king crab mature female abundance is estimated from the 2006 survey data at 29.7 million red king crabs and the effective spawning biomass is estimated as 157 million pounds (71,215 mt). Based on the criteria set out at § 679.21(e)(1)(ii), the 2008 PSC limit of red king crab in Zone 1 for trawl gear is 197,000 animals. This limit results from the mature female abundance estimate of more than 8.4 million king crab and the effective spawning biomass estimate of more than 55 million pounds (24,948 mt).

Section 679.21(e)(3)(ii)(B)(2) establishes criteria under which NMFS must specify an annual red king crab bycatch limit for the Red King Crab Savings Subarea (RKCSS). The regulations implementing Amendment 80 limit the RKCSS to up to 25 percent of the red king crab PSC allowance. Prior to Amendment 80, regulations limited the RKCSS to up to 35 percent of the trawl bycatch allowance specified for the rock sole/flathead sole/“other flatfish” fishery category. In December 2006, for 2007 and 2008 the Council recommended and NMFS approved a red king crab bycatch limit equal to 35 percent of the trawl bycatch allowance specified for the rock sole/flathead sole/“other flatfish” fishery category within the RKCSS. Since this was the maximum limit available for the RKCSS, under the regulations implementing Amendment 80 NMFS is also setting the 2008 red king crab bycatch limit at the maximum amount available for the RKCSS, or 25 percent of the red king crab PSC allowance.

Based on 2006 survey data, Tanner crab (Chionoecetes bairdi) abundance is estimated as 866 million animals. Given the criteria set out at § 679.21(e)(1)(iii), the 2008 C. bairdi crab PSC limit for trawl gear is 980,000 animals in Zone 1 and 2,970,000 animals in Zone 2. These limits result from the C. bairdi crab abundance estimate of more than 400 million animals.

Pursuant to § 679.21(e)(1)(iv), the PSC limit for snow crab (C. opilio) is based on total abundance as indicated by the NMFS annual bottom trawl survey. The C. opilio crab PSC limit is set at 0.1133 percent of the Bering Sea abundance index. Based on the 2006 survey estimate of 3.25 billion animals, the calculated limit is 4,350,000 animals.

Pursuant to § 679.21(e)(1)(vi), the PSC limit of Pacific herring caught while conducting any trawl operation for BSAI groundfish is 1 percent of the annual eastern Bering Sea herring biomass. The best estimate of 2008 herring biomass is 178,652 mt. This amount was derived using 2006 survey data and an age-structured biomass projection model developed by the Alaska Department of Fish and Game. Therefore, the herring PSC limit for 2008 is 1,787 mt for all trawl gear.

Section 679.21(e)(3) requires, after subtraction of PSQ reserves, that crab and halibut trawl PSC be apportioned between the BSAI trawl limited access and Amendment 80 sectors as presented in Table 7a. The amount of 2008 PSC assigned to the Amendment 80 sector is specified in Table 35 to part 679. Pursuant to § 679.21(e)(1)(iv) and § 679.91(d) through (f), crab and halibut trawl PSC assigned to the Amendment 80 sector is then sub-allocated to Amendment 80 cooperatives as PSC cooperative quota (CQ) and to the Amendment 80 limited access fishery as presented in Tables 7d and e. PSC CQ assigned to Amendment 80 cooperatives is not allocated to specific fishery categories. Section 679.21(e)(3)(i)(B) requires the apportionment of each trawl PSC limit not assigned to Amendment 80 cooperatives into PSC bycatch allowances for seven specified fishery categories. NMFS used the percentages from the trawl apportionments in Table 7 of the 2007 and 2008 final harvest specifications for the BSAI (72 FR 9460) to derive the fishery category and seasonal apportionments for the BSAI trawl limited assess sector in Table 7c and the Amendment 80 limited access sector in Table 7e, below.

Section 679.21(e)(4)(i)(B) requires the apportionment of halibut to the non-trawl fishery categories based on each category's proportional share of the anticipated bycatch mortality of halibut during a fishing year and the need to optimize the amount of total groundfish harvested under the non-trawl halibut PSC limits. Section 679.21(e)(4)(i)(C) authorizes the apportionment of the non-trawl halibut PSC limit into PSC bycatch allowances among six fishery categories. Table 7c lists the fishery bycatch allowances for the trawl and non-trawl fisheries.

Section 679.21(e)(4)(ii) authorizes the exemption of specified non-trawl fisheries from the halibut PSC limit. As in past years, NMFS, after consultation with the Council, exempts pot gear, jig gear, and the sablefish IFQ hook-and-line gear fishery categories from halibut bycatch restrictions because (1) the pot gear fisheries have low halibut bycatch mortality, (2) halibut mortality for the jig gear fleet is assumed to be negligible, and (3) the sablefish and halibut IFQ fisheries have low halibut bycatch mortality because the IFQ program (subpart D of 50 CFR part 679) requires legal-sized halibut to be retained by vessels using hook-and-line gear if a halibut IFQ permit holder or a hired master is aboard and is holding unused halibut IFQ. In 2006, total groundfish catch for the pot gear fishery in the BSAI was approximately 19,721 mt, with an associated halibut bycatch mortality of about 5 mt. The 2006 jig gear fishery harvested about 84 mt of groundfish. Most vessels in the jig gear fleet are less than 60 ft (18.3 m) LOA and thus are exempt from observer coverage requirements. As a result, observer data are not available on halibut bycatch in the jig gear fishery. However, a negligible amount of halibut bycatch mortality is assumed because of the selective nature of jig gear and the low mortality rate of halibut caught with jig gear and released.

Section 679.21(e)(5) authorizes NMFS, after consultation with the Council, to establish seasonal apportionments of PSC amounts in order to maximize the ability of the fleet to harvest the available groundfish TAC and to minimize bycatch. The factors to be considered are (1) seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors. The Council recommended and NMFS approved the seasonal PSC apportionments in Table 7c to maximize harvest among gear types, fisheries, and seasons while minimizing bycatch of PSC based on the above criteria. The revised Tables 7a-e replace Table 7 in the final harvest specifications (72 FR 9460).

BILLING CODE 6100-22-S

BILLING CODE 6100-22-C

BILLING CODE 6100-22-C

Directed Fishing Closures

In accordance with § 679.20(d)(1)(i), the Regional Administrator may establish a directed fishing allowance (DFA) for a species or species group, if the Regional Administrator determines that any allocation or apportionment of a target species or “other species” category has been or will be reached. If the Regional Administrator establishes a DFA, and that allowance is or will be reached before the end of the fishing year, NMFS will prohibit directed fishing for that species or species group in the specified subarea or district (see § 697.20(d)(1)(iii)). Similarly, pursuant to § 679.21(e), if the Regional Administrator determines that a fishery category's bycatch allowance of halibut, red king crab, C. bairdi crab or C. opilio crab for a specified area has been reached, the Regional Administrator will prohibit directed fishing for each species in that category in the specified area.

The Regional Administrator has determined that the allocation amounts in revised Table 9, below, will be necessary as incidental catch to support other anticipated groundfish fisheries for 2008 fishing year. This action changes Table 9 by adding the ICAs for the Amendment 80 species. This revised Table 9 replaces Table 9 in the final harvest specifications (72 FR 9461).

In accordance with § 679.20(d)(1)(i), the Regional Administrator establishes the DFA for the species listed in revised Table 9 as zero. Therefore, in accordance with § 679.20(d)(1)(iii), NMFS is prohibiting directed fishing for these species in the specified areas effective at 1200 hrs, A.l.t., December 19, 2007, through 2400 hrs, A.l.t., December 31, 2008.

These closures remain effective under authority of these 2008 final harvest specifications. These closures supersede the 2008 closures announced under authority of the 2007 and 2008 final harvest specifications (72 FR 9451). While these closures are in effect, the maximum retainable amounts at § 679.20(e) and (f) apply at any time during a fishing trip.

BILLING CODE 6100-22-S

BILLING CODE 6100-22-C

Listed AFA Catcher/Processor Sideboard Limits

Pursuant to § 679.64(a), the Regional Administrator restricts the ability of listed AFA catcher/processors to engage in directed fishing for groundfish species other than pollock to protect participants in other groundfish fisheries from adverse effects resulting from the AFA and from fishery cooperatives in the directed pollock fishery. The basis for these sideboard limits is described in detail in the final rules implementing major provisions of the AFA (67 FR 79692, December 30, 2002), Amendment 80 (72 FR 52668, September 14, 2007), and Amendment 85 (72 FR 50788, September 4, 2007). Table 10 lists the 2008 catcher/processor sideboard limits. This action changes Table 10 by removing the Pacific cod and yellowfin sole sideboard limits. A sideboard limit is not necessary for AFA catcher/processors since Amendment 85 allocated Pacific cod specifically to the AFA catcher/processor sector. Section 679.64(b)(6) exempts AFA catcher processors from a yellowfin sole sideboard limit because the 2008 aggregate ITAC of yellowfin sole assigned to the Amendment 80 sector and BSAI trawl limited access sector (131,950 mt) is greater than 125,000 mt. Also, this action changes Table 10 by increasing the sideboard limits for flathead sole and rock sole because the ITAC for these species increases from 85 percent to 89.3 percent of the TAC. The sideboard limits for Aleutian Islands Pacific ocean perch and Atka mackerel remain the same because the ITAC is specified as 89.3 percent under revised Table 1 for 2008 final harvest specifications. The revised Table 10 below replaces Table 10 in the final harvest specifications (72 FR 9463).

All harvests of groundfish sideboard species made by listed AFA catcher/processors, whether as targeted catch or incidental catch, will be deducted from the sideboard limits in the revised Table 10. However, groundfish sideboard species that are delivered to listed catcher/processors by catcher vessels will not be deducted from the 2008 sideboard limits for the listed catcher/processors.

BILLING CODE 6100-22-S

BILLING CODE 6100-22-C

In the original 2008 harvest specifications, AFA catcher/processor halibut PSC sideboard limits are calculated based on a proportion of the halibut PSC available to all trawl vessels. Amendment 80 fixes the halibut PSC sideboard limits for AFA catcher/processors at the levels established in the 2006 and 2007 final harvest specifications (71 FR 10894, March 3, 2006) and listed in Table 40 to part 679 in the proposed regulatory text.

In the original 2008 harvest specifications, the amount of trawl crab PSC available to AFA catcher/processors is based on the total crab PSC limit, prior to any allocations to the CDQ reserves. Amendment 80 changes the amount of crab PSC available for AFA catcher/processor sideboard limit calculations to the amount of the trawl PSC limit available after allocation to the CDQ reserves as crab PSQ. Table 41 to part 679 shows the results of this change.

The basis for these sideboard limits is described in detail in the final rules implementing major provisions of the AFA (67 FR 79692, December 30, 2002) and Amendment 80 (72 FR 52668, September 14, 2007). The revised Table 11 below replaces Table 11 in the final harvest specifications (72 FR 9463-9464).

Halibut and crab PSC listed in revised Table 11 that are caught by listed AFA catcher/processors participating in any groundfish fishery other than pollock will accrue against the 2008 PSC sideboard limits for the listed AFA catcher/processors. Section 679.21(e)(3)(v) authorizes NMFS to close directed fishing for groundfish other than pollock for listed AFA catcher/processors once a 2008 PSC sideboard limit listed in revised Table 11 is reached.

Crab or halibut PSC caught by listed AFA catcher/processors while fishing for pollock will accrue against the bycatch allowances annually specified for either the midwater pollock or the pollock/Atka mackerel/“other species” fishery categories under regulations at § 679.21(e)(3)(iv).

BILLING CODE 6100-22-S

BILLING CODE 6100-22-C

AFA Catcher Vessel Sideboard Limits

Pursuant to § 679.64(b), the Regional Administrator restricts the ability of AFA catcher vessels to engage in directed fishing for groundfish species other than pollock to protect participants in other groundfish fisheries from adverse effects resulting from the AFA and from fishery cooperatives in the directed pollock fishery. Section 679.64(b) establishes a formula for setting AFA catcher vessel groundfish and PSC sideboard limits for the BSAI. The basis for these sideboard limits is described in detail in the final rules implementing major provisions of the AFA (67 FR 79692, December 30, 2002) and Amendment 80 (72 FR 52668, September 14, 2007). Tables 12 and 13 list the 2008 AFA catcher vessel sideboard limits.

This action changes Table 12 by removing the yellowfin sole sideboard limit. Section 679.64(b)(6) exempts AFA catcher vessels from a yellowfin sole sideboard limit because the 2008 aggregate ITAC of yellowfin sole assigned to the Amendment 80 sector and BSAI trawl limited access sector (131,950 mt) is greater than 125,000 mt. Also, this action changes Table 12 by increasing the sideboard limits for flathead sole and rock sole because the ITAC for these species increases from 85 percent to 89.3 percent of the TAC. The sideboard limits for Aleutian Islands Pacific ocean perch and Atka mackerel remain the same because the ITAC was specified as 89.3 percent under revised Table 1 for 2008 final harvest specifications. The revised Table 12 below replaces Table 12 in the final harvest specifications (72 FR 9464-9465).

All harvests of groundfish sideboard species made by non-exempt AFA catcher vessels, whether as targeted catch or incidental catch, will be deducted from the sideboard limits listed in revised Table 12.

BILLING CODE 6100-22-S

BILLING CODE 6100-22-C

In the original 2008 harvest specifications, AFA catcher vessel halibut PSC sideboard limits are calculated based on a proportion of the halibut PSC available to all trawl vessels. Amendment 80 fixed the halibut PSC sideboard limits for AFA catcher vessels in each fishery complex in the BSAI at the levels established in the 2006 and 2007 final harvest specifications (71 FR 10894, March 3, 2006) and listed in Table 40 to part 679.

In the original 2008 harvest specifications, the AFA catcher vessel crab sideboard calculation is dependent on the distribution of trawl crab PSC among the target fishery categories, and the AFA catcher vessel sideboard limit cannot be calculated until those amounts are determined in the annual harvest specification process. This action changes the AFA catcher vessel crab sideboard limit under Amendment 80. It calculates the proportion of the total trawl crab PSC limit attributed to AFA catcher vessels as the sum of the AFA catcher vessel PSC sideboard limits for each crab PSC species in all target fisheries divided by the sum of the total trawl PSC limit for that crab PSC species as described in the annual harvest specification process in each year. Table 41 to part 679 shows the results of this change. The revised Table 3 below replaces Table 13 in the final harvest specifications (72 FR 9465-9466).

Halibut and crab PSC listed in revised Table 13 that are caught by AFA catcher vessels participating in any groundfish fishery for groundfish other than pollock will accrue against the 2008 PSC sideboard limits for the AFA catcher vessels. Sections 679.21(d)(8) and (e)(3)(v) authorize NMFS to close directed fishing for groundfish other than pollock for AFA catcher vessels once a 2008 PSC sideboard limit listed in revised Table 13 is reached. The PSC that is caught by AFA catcher vessels while fishing for pollock in the BSAI will accrue against the bycatch allowances annually specified for either the midwater pollock or the pollock/Atka mackerel/“other species” fishery categories under regulations at § 679.21(e)(3)(iv).

BILLING CODE 6100-22-S

BILLING CODE 6100-22-C

AFA Catcher/Processor and Catcher Vessel Sideboard Directed Fishing Closures

The Regional Administrator has determined that many of the AFA catcher/processor and catcher vessel sideboard limits listed in Tables 14 and 15 are necessary as incidental catch to support other anticipated groundfish fisheries for the 2008 fishing year. In accordance with § 679.20(d)(1)(iv), the Regional Administrator establishes the sideboard limits listed in Tables 14 and 15 as DFAs. The Regional Administrator finds that many of these DFAs will be reached before the end of the year. Therefore, in accordance with § 679.20(d)(1)(iii), NMFS is prohibiting directed fishing by listed AFA catcher/processors for the species in the specified areas set out in Table 14 and directed fishing by non-exempt AFA catcher vessels for the species in the specified areas set out in Table 15. This action changes Table 14 by increasing the 2008 sideboard limit for rock sole from 2,359 mt to 2,478 mt. The 2008 rock sole sideboard limit increased for Amendment 80 species because the allocation to the ITAC increased from 85 percent to 89.3 percent. Also, this action adds flathead sole to Table 14 because flathead sole is fully allocated to the non-AFA trawl catcher/processors. This action changes Table 15 by increasing the 2008 sideboard limit for flathead sole from 1,932 mt to 2,029 mt. The 2008 flathead sole sideboard limit increased for Amendment 80 species because the allocation to the ITAC increased from 85 percent to 89.3 percent. Also, this action adds rock sole to Table 14 because rock sole is fully allocated to the non-AFA trawl catcher/processors. The revised Tables 14 and 15 below replace Tables 14 and 15 in the final harvest specifications (72 FR 9467).

BILLING CODE 6100-22-S

BILLING CODE 6100-22-C

Allocation of the Aleutian Islands Pacific Ocean Perch, Flathead Sole, Rock Sole, and Yellowfin Sole TACs

This action changes the allocations of the flathead sole, rock sole, yellowfin sole, and Aleutian Islands Pacific ocean perch TACs in the BSAI after subtraction of 10.7 percent for the CDQ reserve by further allocating amounts to ICAs, BSAI trawl limited access, Amendment 80 limited access, and Amendment 80 cooperatives. The allocation of the ITAC for flathead sole, rock sole, yellowfin sole, and Aleutian Islands Pacific ocean perch is established in accordance with §§ 679.20(a)(10)(i) and (ii), § 679.91, and Tables 33 and 34 to part 679. Table 16 below lists the 2008 allocations and seasonal apportionments of the flathead sole, rock sole, yellowfin sole, and Aleutian Islands Pacific ocean perch TACs. This Table 16 is added to the final harvest specifications.

BILLING CODE 6100-22-S

BILLING CODE 6100-22-C

Revisions to the 2008 Final Harvest Specifications for the GOA

GOA Amendment 80 Vessel Groundfish Harvest and PSC Limits

Section 679.92 establishes groundfish harvesting sideboard limits on all Amendment 80 vessels to amounts no greater than the limits shown in Table 37 to part 679. Sideboard limits in the GOA are for pollock in the Western and Central Regulatory Areas and in the West Yakutat District, Pacific cod gulfwide, Pacific ocean perch and pelagic shelf rockfish in the Western Regulatory Area and West Yakutat District, and northern rockfish in the Western Regulatory Area. These sideboard limits are necessary to protect the interests of fishermen who do not directly benefit from vessels who receive exclusive harvesting privileges under the Amendment 80 program unless fishing in the limited access or cooperative sectors in the Central GOA Rockfish Program (Rockfish program). Groundfish sideboard limits for Amendment 80 vessels operating in the GOA are based on their average aggregate harvests from 1998 to 2004.

The harvest of Pacific ocean perch, pelagic shelf rockfish, and northern rockfish in the Central Regulatory Area of the GOA is subject to regulation under the Rockfish program. Amendment 80 vessels not qualified under the Rockfish program are excluded from directed fishing for these rockfish species in the Central GOA. Under the Amendment 80 program the F/V Golden Fleece is prohibited from directed fishing for pollock, Pacific cod, Pacific ocean perch, pelagic shelf rockfish, and northern rockfish in the GOA unless fishing in the Central GOA in the limited access or cooperative sectors in the Rockfish program.

Table 17 below lists the 2008 GOA sideboard limits. All targeted or incidental catch of sideboard species made by Amendment 80 vessels will be deducted from the sideboard limits in Table 17. Table 17 is added to the final 2008 harvest specifications for groundfish of the Gulf of Alaska (72 FR 9676, March 5, 2007).

BILLING CODE 6100-22-S

BILLING CODE 6100-22-C

The PSC sideboard limits for Amendment 80 vessels in the GOA are based on the historic use of halibut PSC by Amendment 80 vessels in each PSC target category from 1998 through 2004 (Table 38 to 50 CFR part 679). These values are slightly lower than the average historic use to accommodate two factors: allocation of halibut PSC CQ under the Central GOA Rockfish Program; and the exemption of the F/V GOLDEN FLEECE from this restriction. Table 18 below lists these amounts. Table 18 is added to the final harvest specifications for groundfish of the Gulf of Alaska (72 FR 9676, March 5, 2007).

BILLING CODE 6100-22-S

BILLING CODE 6100-22-C

Small Entity Compliance Guide

The following information is a plain language guide to assist small entities in complying with this final rule as required by the Small Business Regulatory Enforcement Fairness Act of 1996. This final rule is necessary to revise 2008 final harvest specifications and prohibited species catch limits for the groundfish fishery of the BSAI so that these amounts are consistent with new fishery allocations and limitations established under Amendments 80 and 85. This action affects all fishermen who participate in the BSAI fishery. The specific amounts of OFL, ABC, TAC, and PSC amounts and allocations thereof, are provided in tabular form to assist the reader. NMFS will announce closures of directed fishing in the Federal Register and in information bulletins released by the Alaska Region. Affected fishermen should keep themselves informed of such closures.

Classification

NMFS determined that the BSAI and GOA FMPs are necessary for the conservation and management of the Alaska groundfish fisheries and that they are consistent with the Magnuson-Stevens Fishery Conservation and Management Act and other applicable laws.

This action is authorized under § 679.20 and is exempt from review under Executive Order 12866.

Pursuant to 5 U.S.C. 553(b)(B), the Assistant Administrator for Fisheries, NOAA (AA) finds good cause to waive prior notice and opportunity for public comment on this action as notice and comment is unnecessary. Through this action, NOAA seeks to revise the 2008 BSAI and GOA harvest specifications consistent with the final rules implementing Amendments 80 and 85 and to ensure that the groundfish and PSC allocations and limits implemented under Amendments 80 and 85 will be effective at the beginning of the 2008 fishing year. Prior notice and opportunity for public comment on this action is unnecessary because the revisions being made by this action seek merely to update the 2008 BSAI and GOA harvest specifications to reflect allocations and limitations implemented and required by Amendments 80 and 85 and which have already been subject to notice and comment. This action does not revise the 2008 BSAI and GOA harvest specifications in any substantive manner not previously the subject of notice and comment during the development of Amendments 80 and 85.

The AA also finds good cause to waive the 30-day delay in the effective date requirement of 5 U.S.C. 553(d). The waiver of the 30-day delay in effective date requirement of 5 U.S.C. 553(d) is necessary to ensure that the allocations and limitations required under Amendments 80 and 85 will be effective at the beginning of the 2008 fishing year and to provide the regulated community with the timely, adequate and accurate information necessary to allow the industry to plan for the fishing season, to conduct orderly and efficient fisheries and to avoid potential disruption to the fishing fleet and processors. This rule must be effective on January 1, 2008, because vessels affected by the changes in this final rule will begin fishing immediately after the start of the calendar year when the value from several of these groundfish fisheries, such as rock sole and yellowfin sole, is the highest. If this action is not effective at the start of the fishing year, some vessels would be able to harvest groundfish in amounts that exceed allocations that will be implemented under Amendments 80 and 85, thereby reducing allocations of groundfish intended for other vessels and undermining the intent of Amendments 80 and 85. The economic value of the fisheries for intended recipients under Amendments 80 and 85 would be lost.

NMFS prepared a Final EIS for the harvest strategy implemented by the annual harvest specifications and made it available to the public on January 12, 2007 (72 FR 1512). On February 13, 2007, NMFS issued the Record of Decision (ROD) for the Final EIS. Copies of the Final EIS and ROD for this action are available (see ADDRESSES).

Three separate final regulatory flexibility analyses (FRFAs) were prepared to evaluate the impacts on small entities resulting from (1) alternative harvest strategies employed in establishing the 2008 harvest specifications (2) alternatives considered during the development and approval of Amendment 85, and (3) alternatives considered during the development and approval of Amendment 80. All three of these FRFAs met the statutory requirements of the Regulatory Flexibility Act (RFA) of 1980, as amended by the Small Business Regulatory Enforcement Fairness Act of 1996 (5 U.S.C. 601-612). A summary of each FRFA was published with its relevant final rule and is not repeated here. The summary of the FRFA supporting the final 2008 final harvest specifications was published March 2, 2007 (72 FR 9451) and March 5, 2007 (72 FR 9676); the summary of the FRFA supporting Amendment 85 to the FMP was published September 4, 2007 (72 FR 50788), and the summary of the FRFA supporting Amendment 80 to the FMP was published September 14, 2007 (72 FR 52668).

Authority: 16 U.S.C. 773 et seq., 1801 et seq., 3631 et seq.; Pub. L. 108 447.

Dated: December 13, 2007.
Samuel D. Rauch III,
Deputy Assistant Administrator for Regulatory Programs, National Marine Fisheries Service.

[FR Doc. 07-6100 Filed 12-18-07; 8:45 am]

BILLING CODE 6100-22-S